DEPARTMENT OF ENERGY

[GDO Docket No. EA-410-C]

Application for Renewal of Authorization To Export Electric Energy; CWP Energy, Inc.

AGENCY: Grid Deployment Office, Department of Energy.

ACTION: Notice of application.

SUMMARY: CWP Energy, Inc. (the Applicant or CWP Energy) has applied for renewal of its authorization to transmit electric energy from the United States to Canada pursuant to the Federal Power Act.

DATES: Comments, protests, or motions to intervene must be submitted on or before December 22, 2025.

ADDRESSES: Comments, protests, motions to intervene, or requests for more information should be addressed by electronic mail to Electricity.Exports@hq.doe.gov.

FOR FURTHER INFORMATION CONTACT: Marina Fennel, (240) 702-6156, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.¹

¹ As stated in Redelegation Order No. S3-DEL-GD1-2023, nothing in the Order precludes the Secretary or the Under Secretary (for Infrastructure) from exercising any of the authority delegated by the Order.

On June 18, 2025, CWP Energy filed an application (Application or App) for renewal of export authorization to transmit electric energy from the United States to Canada for a term of five years. App. at 2.

The Applicant is a Canadian Corporation with its principal place of business in Montréal, Québec, Canada. Id. at 3. CWP Energy states it is a subsidiary of McGill-St. Laurent, which owns 88.4% of CWP Energy. Id. at 2-3. The Applicant further states CWP Energy is owned 10.03% by Investissements AFA Inc and 1.57% by Mr. Guillaume Desnoyers. Id. at 3. The Applicant states “CWP Energy is a [Federal Energy Regulatory Commission]-authorized power marketer engaging in the purchase and sale of physical and/or virtual energy in the Day-ahead and Real-time Markets of various Independent System Operators and Regional Transmission Organizations.” Id. at 3-4.

The Applicant represents that “CWP Energy will purchase power to be exported from a variety of sources” and that “such power is surplus to the system of the generator and, therefore, the electric power that CWP Energy will export on either a firm or interruptible basis will not impair the sufficiency of the electric power supply within the U.S.” App. at 5. The Applicant states that “CWP Energy will schedule its transactions with the appropriate balancing authority areas in compliance with the reliability criteria standards and guidelines established by the North American Reliability Corporation (`NERC') and its member regional councils in effect at the time of the export.” Id. at 5. The Applicant further states “that the exports proposed by CWP Energy will not impair or tend to impede the sufficiency of electric supplies in the U.S. or the regional coordination of electric utility planning or operations.” Id. at 6.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning CWP Energy's Application should be clearly marked with GDO Docket No. EA-410-C. Additional copies are to be provided directly to Ruta Kalvaitis Skučas, Esq., Crowell & Moring LLP, 1001 Pennsylvania Avenue NW, Washington, DC 20004, rskucas@crowell.com, and Alain Brisebois, President, CWP Energy, 407 McGill Street, Suite 315, Montreal, PQ, H2Y 2G3, Alain@cwpenergy.com.

A final decision will be made on the requested authorization after DOE reviews the action pursuant to the National Environmental Policy Act Implementing Procedures (June 2025), including 10 CFR part 1021 and after DOE evaluates whether the proposed action will have an adverse impact on the sufficiency of supply or reliability of the United States electric power supply system.

Copies of this Application will be made available, upon request, by accessing the program website at www.energy.gov/gdo/pending-applications-0 or by emailing Electricity.Exports@hq.doe.gov.

Signing Authority: This document of the Department of Energy was signed on November 14, 2025, by Chris Wright, Secretary of Energy, U.S Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 19, 2025.
Treena V. Garrett,
Federal Register Liaison Officer, U.S. Department of Energy.

[FR Doc. 2025-20602 Filed 11-20-25; 8:45 am]

BILLING CODE 6450-01-P